DEPARTMENT OF COMMERCE

National Oceanic and Atmospheric Administration

[RTID 0648-XB847]

North Pacific Fishery Management Council; Public Meeting

AGENCY: National Marine Fisheries Service (NMFS), National Oceanic and Atmospheric Administration (NOAA), Commerce.

ACTION: Notice of webconference.

SUMMARY: The North Pacific Fishery Management Council (Council)'s Executive Committee will hold a webconference March 14, 2022.

DATES: The Executive Committee will begin at 8 a.m. on Monday, March 14, 2022, from 8 a.m. to 4 p.m., Alaska Time.

ADDRESSES: The meeting will be by webconference. Join online through the link at https://meetings.npfmc.org/Meeting/Details/2857.

Council address: North Pacific Fishery Management Council, 1007 W 3rd Ave, Anchorage, AK 99501-2252; telephone: (907) 271-2809. Instructions for attending the meeting via webconference are given under Connection Information, below.

FOR FURTHER INFORMATION CONTACT: Diana Evans, Council staff; email: diana.evans@noaa.gov, telephone: (907) 271-2809. For technical support please contact our administrative staff, email: npfmc.admin@noaa.gov.

SUPPLEMENTARY INFORMATION:

Agenda

Monday, March 14, 2022

The Executive Committee and AP and SSC leadership will review a staff paper on reflections on the Council process and Ideas for Change, and develop recommendations for the Council. The Agenda is subject to change, and the latest version will be posted at https://meetings.npfmc.org/Meeting/Details/2857 prior to the meeting, along with meeting materials.

Connection Information

You can attend the meeting online using a computer, tablet, or smart phone; or by phone only. Connection information will be posted online at: https://meetings.npfmc.org/Meeting/Details/2857. For technical support please contact our administrative staff, email: npfmc.admin@noaa.gov.

Public Comment

Public comment letters will be accepted and should be submitted electronically through the links at https://meetings.npfmc.org/Meeting/Details/2857 by 5 p.m. Alaska time, March 13, 2022. The Committee will also hear oral testimony, sign-up information will be posted at https://meetings.npfmc.org/Meeting/Details/2857.

Authority: 16 U.S.C. 1801 et seq.

Dated: February 23, 2022.
Tracey L. Thompson,
Acting Deputy Director, Office of Sustainable Fisheries, National Marine Fisheries Service.

[FR Doc. 2022-04138 Filed 2-25-22; 8:45 am]

BILLING CODE 3510-22-P